DEPARTMENT OF STATE

[Public Notice 8378]

Culturally Significant Objects Imported for Exhibition Determinations: “Kongo Across the Waters”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the objects to be included in the exhibition “Kongo across the Waters,” imported from abroad for temporary exhibition within the United States, are of cultural significance. The objects are imported pursuant to loan agreements with the foreign owners or custodians. I also determine that the exhibition or display of the exhibit objects at the Samuel P. Harn Museum of Art, Gainesville, Florida, from on or about October 22, 2013, until on or about March 23, 2014, the Jimmy Carter Presidential Library and Museum, Atlanta, Georgia, from on or about May 17, 2014, until on or about September 21, 2014, the Princeton University Museum of Art, Princeton, New Jersey, from on or about October 25, 2014, until on or about January 25, 2015, and the New Orleans Museum of Art, New Orleans, Louisiana, from on or about February 27, 2015, until on or about May 25, 2015, and at possible additional exhibitions or venues yet to be determined, is in the national interest. I have ordered that Public Notice of these Determinations be published in the Federal Register.

FOR FURTHER INFORMATION CONTACT: For further information, including a list of the exhibit objects, contact Paul W. Manning, Attorney-Adviser, Office of the Legal Adviser, U.S. Department of State (telephone: 202-632-6469). The mailing address is U.S. Department of State, SA-5, L/PD, Fifth Floor (Suite 5H03), Washington, DC 20522-0505.

Dated: July 2, 2013.
Ann Stock,
Assistant Secretary, Bureau of Educational and Cultural Affairs, Department of State.

[FR Doc. 2013-16787 Filed 7-11-13; 8:45 am]

BILLING CODE 4710-05-P